DEPARTMENT OF HEALTH AND HUMAN SERVICES

Administration for Children and Families

Expedited Office of Management and Budget Review and Public Comment: Office of Human Services Emergency Preparedness and Response Disaster Human Services Case Management Intake Assessment, Resource Referral, and Case Management Plan

AGENCY: Office of Human Services Emergency Preparedness and Response, Administration for Children and Families, U.S. Department of Health and Human Services.

ACTION: Request for Public Comments.

SUMMARY: The Office of Human Services Emergency Preparedness and Response (OHSEPR), Administration for Children and Families (ACF), U.S. Department of Health and Human Services (HHS), is requesting expedited review of an information collection request from the Office of Management and Budget (OMB) and inviting public comments on the proposed collection. OHSEPR's Disaster Human Services Intake Assessment, Resource Referral, and Case Management Plan collection is part of a system of tools that OHSEPR utilizes to support disaster survivors during response missions. ACF is requesting immediate approval for this information collection but also requesting comments to inform any updates prior to requesting an extension of approval within six months.

DATES: Comments due within 60 days of publication. In compliance with the requirements of the Paperwork Reduction Act (PRA) of 1995, ACF is soliciting public comment on the specific aspects of the information collection described in this notice. These comments will be considered prior to requesting an extension of approval.

ADDRESSES: Copies of the proposed collection of information can be obtained and comments may be submitted by emailing infocollection@acf.hhs.gov. Identify all by the title of the information collection.

SUPPLEMENTARY INFORMATION: Description: OHSEPR's case managers would use this collection during an intake assessment to identify a disaster survivor's unmet needs and to work with the survivor to develop a case management plan based on the survivor's responses. ACF is requesting that OMB grant a 180-day approval for this request under procedures for expedited processing, as authorized under 44 U.S.C. 3507 (subsection j). The information collected is essential to the mission of the agency and an unanticipated event occurred that could reasonably result in public harm if normal PRA clearance procedures are followed. ACF is requesting expedited processing to ensure that the agency is operationally ready to support disaster survivors in Hawai'i who were impacted by the wildfires that began August 8, 2023, on Maui County. A request for review under normal procedures will be submitted within 180 days of the approval for this request.

Respondents: Disaster Survivors.

Annual Burden Estimates
Data collection | Annual number of respondents | Total number of responses per respondent | Average burden hours per response | Annual burden hours
Disaster Human Services Case Management Intake Assessment—Survivor | 9,000 | 1 | 1.5 | 13,500
Case Management Plan—Case Manager | 180 | 50 | 1 | 9,000
Resource Referral Form—Case Manager | 180 | 50 | 1 | 9,000
Case Record Notes—Case Manager | 180 | 50 | 1 | 9,000
Survivor Satisfaction Survey—Survivor | 9,000 | 1 | .25 | 2,250
Estimated Total Annual Burden Hours |  |  |  | 42,750

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

Authority: The Disaster Human Services Case Management Program is authorized through appropriations language under the Children and Families Services account. It is operated by the ACF Office of Human Services Emergency Preparedness and Response, which is the lead in HHS for human service preparation for, response to, and recovery from, natural disasters.

Mary B. Jones,
ACF/OPRE Certifying Officer.

[FR Doc. 2023-22294 Filed 10-4-23; 8:45 am]

BILLING CODE 4184-PC-P